FEDERAL DEPOSIT INSURANCE CORPORATION

FDIC Advisory Committee on Economic Inclusion (ComE-IN); Notice of Meeting

AGENCY: Federal Deposit Insurance Corporation (FDIC).

ACTION: Notice of open meeting; correction.

SUMMARY: The FDIC is correcting a Notice of Open Meeting that appeared in the Federal Register of October 14, 2014 (79 FR 61641), regarding a meeting of the FDIC Advisory Committee on Economic Inclusion. This publication corrects a typographical error in the meeting date appearing on page 61641 in the DATES section.

Effective Date of Correction: The correction is effective upon publication in the Federal Register.

FOR FURTHER INFORMATION CONTACT: Robert E. Feldman, Executive Secretary, 202-898-3811.

SUPPLEMENTARY INFORMATION: In FR Doc. 2014-24322, appearing on page 61641 in the Federal Register of October 14, 2014, the following correction is made:

DATES: Wednesday, October 29, 2014, from 9:00 a.m. to 3:15 p.m.

Dated October 27, 2014.
Federal Deposit Insurance Corporation.
Robert E. Feldman,
Executive Secretary.

[FR Doc. 2014-25816 Filed 10-29-14; 8:45 am]

BILLING CODE 6714-01-P